DEPARTMENT OF ENERGY

Federal Energy Regulatory Commission

Combined Notice of Filings #1

Take notice that the Commission received the following electric corporate filings:

Docket Numbers: EC20-35-000.

Applicants: FPL Energy Sooner Wind, LLC, Sooner Wind, LLC, FPL Energy Oklahoma Wind, LLC, Oklahoma Wind, LLC, FPL Energy Burleigh County Wind, LLC, Wilton Wind Energy I, LLC.

Description: Application for Authorization Under Section 203 of the Federal Power Act, et al. of FPL Energy Sooner Wind, LLC, et al.

Filed Date: 2/3/20.

Accession Number: 20200203-5172.

Comments Due: 5 p.m. ET 2/24/20.

Take notice that the Commission received the following electric rate filings:

Docket Numbers: ER15-1041-012; ER15-2205-012.

Applicants: Prairie Breeze Wind Energy II LLC, Prairie Breeze Wind Energy III LLC.

Description: Notice of Non-Material Change in Status of the PBX Sellers.

Filed Date: 2/3/20.

Accession Number: 20200203-5257.

Comments Due: 5 p.m. ET 2/24/20.

Docket Numbers: ER20-940-000.

Applicants: Midcontinent Independent System Operator, Inc.

Description: Compliance filing: 2020-02-03_Compliance filing to SPP-JOA requiring revisions to Affected Systems to be effective 4/4/2020.

Filed Date: 2/3/20.

Accession Number: 20200203-5169.

Comments Due: 5 p.m. ET 2/24/20.

Docket Numbers: ER20-941-000.

Applicants: Southwest Power Pool, Inc.

Description: § 205(d) Rate Filing: SPP-MISO JOA Revisions to Enhance and Clarify Affected Systems Coordination to be effective 4/4/2020.

Filed Date: 2/3/20.

Accession Number: 20200203-5171.

Comments Due: 5 p.m. ET 2/24/20.

Docket Numbers: ER20-942-000.

Applicants: Midcontinent Independent System Operator, Inc.

Description: Compliance filing: 2020-02-03_Compliance filing to PJM-JOA requiring revisions to Affected Systems to be effective 4/6/2020.

Filed Date: 2/3/20.

Accession Number: 20200203-5173.

Comments Due: 5 p.m. ET 2/24/20.

Docket Numbers: ER20-943-000.

Applicants: Southwest Power Pool, Inc.

Description: Compliance filing: Compliance Filing in Response to Order on Complaint in EL18-26 (Part 1) to be effective 4/4/2020.

Filed Date: 2/3/20.

Accession Number: 20200203-5179.

Comments Due: 5 p.m. ET 2/24/20.

Docket Numbers: ER20-944-000.

Applicants: PJM Interconnection, L.L.C.

Description: Compliance filing: Compliance filing per the Commission's 9/19/2019 order in Docket No. EL18-26 to be effective 4/6/2020.

Filed Date: 2/3/20.

Accession Number: 20200203-5180.

Comments Due: 5 p.m. ET 2/24/20.

Docket Numbers: ER20-945-000.

Applicants: Southwest Power Pool, Inc.

Description: Compliance filing: Compliance Filing in Response to Order on Complaint in EL18-26 (Part 2) to be effective 4/4/2020.

Filed Date: 2/3/20.

Accession Number: 20200203-5181.

Comments Due: 5 p.m. ET 2/24/20.

Docket Numbers: ER20-946-000.

Applicants: NorthWestern Corporation.

Description: § 205(d) Rate Filing: SA 243 16th Rev—NITSA with CHS Inc. to be effective 3/1/2020.

Filed Date: 2/4/20.

Accession Number: 20200204-5000.

Comments Due: 5 p.m. ET 2/25/20.

Docket Numbers: ER20-947-000.

Applicants: NorthWestern Corporation.

Description: § 205(d) Rate Filing: SA 767 8th Rev—NITSA with Basin Electric Power Cooperative to be effective 2/5/2020.

Filed Date: 2/4/20.

Accession Number: 20200204-5001.

Comments Due: 5 p.m. ET 2/25/20.

Docket Numbers: ER20-948-000.

Applicants: Southwestern Public Service Company.

Description: § 205(d) Rate Filing: SPS Wholesale Fuel Factor Modification to be effective 12/1/2019.

Filed Date: 2/4/20.

Accession Number: 20200204-5030.

Comments Due: 5 p.m. ET 2/25/20.

Docket Numbers: ER20-949-000.

Applicants: NorthWestern Corporation.

Description: 2019 Post-Retirement Benefits Other than Pensions of Northwestern Corporation.

Filed Date: 2/3/20.

Accession Number: 20200203-5246.

Comments Due: 5 p.m. ET 2/24/20.

Docket Numbers: ER20-950-000.

Applicants: Public Service Company of Colorado.

Description: § 205(d) Rate Filing: Joint Dispatch Agreement Update to be effective 4/5/2020.

Filed Date: 2/4/20.

Accession Number: 20200204-5060.

Comments Due: 5 p.m. ET 2/25/20.

Docket Numbers: ER20-951-000.

Applicants: Mid-Atlantic Interstate Transmission, LL,PJM Interconnection, L.L.C.

Description: § 205(d) Rate Filing: MAIT submits 8 ECSAs, Service Agreement Nos. 5329, 5330, 5334, 5388, 5512, et al to be effective 4/4/2020.

Filed Date: 2/4/20.

Accession Number: 20200204-5079.

Comments Due: 5 p.m. ET 2/25/20.

Docket Numbers: ER20-952-000.

Applicants: NorthWestern Corporation.

Description: § 205(d) Rate Filing: SA 305 15th Rev—NITSA with Stillwater Mining Company to be effective 3/1/2020.

Filed Date: 2/4/20.

Accession Number: 20200204-5083.

Comments Due: 5 p.m. ET 2/25/20.

Docket Numbers: ER20-953-000.

Applicants: PJM Interconnection, L.L.C.

Description: § 205(d) Rate Filing: Original ISA, SA No. 5561; Queue No. AC1-043 to be effective 1/14/2020.

Filed Date: 2/4/20.

Accession Number: 20200204-5084.

Comments Due: 5 p.m. ET 2/25/20.

Docket Numbers: ER20-954-000.

Applicants: Ohio Power Company, AEP Ohio Transmission Company, Inc., PJM Interconnection, L.L.C.

Description: § 205(d) Rate Filing: AEP submits ILDSA, SA No. 1336 and 2 Facilities Agreements to be effective 4/4/2020.

Filed Date: 2/4/20.

Accession Number: 20200204-5088.

Comments Due: 5 p.m. ET 2/25/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2020.
Nathaniel J. Davis, Sr.,
Deputy Secretary.

[FR Doc. 2020-02556 Filed 2-7-20; 8:45 am]

BILLING CODE 6717-01-P